DEPARTMENT OF JUSTICE

Notice of Lodging of Proposed Order To Amend the Consent Decree Under the Clean Air Act

Notice is hereby given that on July 10, 2008, a proposed Order to amend the Consent Decree in United States v. Premier Industries, Inc., Civil Action No. ED CV 07-01092 (SGL) (OPx), was lodged with the United States District Court for the Central District of California.

The proposed Order modifies the Consent Decree entered by the Court in this matter in January 2008. The Consent Decree resolved the United States' claims against Premier under Section 113(b) of the Clean Air Act (“CAA”), 42 U.S.C. 7413(b), for alleged violations of the CAA and the federally approved California State Implementation Plan, including South Coast Air Quality Management District Rule 1175, at an expandable polystyrene foam block manufacturing facility it owned in Chino, CA (“Facility”). The proposed Order allows the Defendant to utilize, under prescribed operating parameters, two Newly-Identified EPS Beads (“NIEPS Bead”) which EPA has approved for use at the Facility. The proposed Order also establishes a process whereby Defendant can request approval, from EPA and without further action by the Court, to use additional NIEPS Bead.

The Department of Justice will receive for a period of thirty (30) days from the date of this publication, comments relating to the proposed Order. Comments should be addressed to the Assistant Attorney General, Environment and Natural Resources Division, and either e-mailed to pubcomment-ees.enrd@usdoj.gov or mailed to P.O. Box 7611, U.S. Department of Justice, Washington, DC 20044-7611, and should refer to United States v. Premier Industries, Inc., D.J. Ref. 90-5-2-1-08413.

The proposed Order may be examined at the Office of the United States Attorney, 300 North Los Angeles Street, Los Angeles, CA 90012, and at U.S. EPA Region IX, 75 Hawthorne Street, San Francisco, CA 94105. During the public comment period, the proposed Order may also be examined on the following Department of Justice Web site: http://www.usdoj.gov/enrd/Consent_Decrees.html. A copy of the proposed Order may also be obtained by mail from the Consent Decree Library, P.O. Box 7611, U.S. Department of Justice, Washington, DC 20044-7611 or by faxing or e-mailing a request to Tonia Fleetwood (tonia.fleetwood@usdoj.gov), fax number (202) 514-0097, phone confirmation number (202) 514-1547. When requesting a copy from the Consent Decree Library, please enclose a check in the amount of $2.25 for the proposed Order (25 cents per page reproduction cost), payable to the U.S. Treasury or, if by e-mail or fax, forward a check in that amount to the Consent Decree Library at the stated address.

Henry S. Friedman,
Assistant Chief, Environmental Enforcement Section, Environment and Natural Resources Division.

[FR Doc. E8-16243 Filed 7-15-08; 8:45 am]

BILLING CODE 4410-15-P